DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before November 16, 2022

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on October 06, 2022.
Donald P. Burger,
Chief, General Approvals and Permits Branch.

Application No. | Applicant | Regulation(s) affected | Nature of the special permits thereof
SPECIAL PERMITS DATA—Granted
14546-M | Linde Gas & Equipment Inc | 180.209(a), 180.209(b), 180.209(b)(1)(iv) | To modify the special permit to authorize a 15-year periodic requalification interval for certain cylinders.
15146-M | Tech Spray L P | 172.200, 172.400, 172.500, 173.304(a) | To modify the permit to include additional hazardous materials.
16365-M | RDS Manufacturing, Inc | 177.834(h), 178.700(c)(1) | To modify the special permit to authorize two additional packagings.
20482-M | Solid Power Operating, Inc | 173.35(e) | To modify the special permit to authorize an additional hazardous material.
21259-N | Quantum Fuel Systems LLC | 173.302(a)(1) | To authorize the manufacture, mark, sale, and use of a non-DOT specification fully wrapped fiber reinforced composite gas cylinder with a non-load sharing plastic liner. Except as specified, the cylinder is designed in accordance with the ISO 11515:2013 Standard for the transportation in commerce of the hazardous materials authorized herein.
21373-N | Sigma-Aldrich Co. LLC | 172.203(a), 172.203(c), 172.704 | To authorize the transportation in commerce of hazardous materials packaged in UN 4G and 4GV fiberboard boxes that have been partially closed by hazardous materials employees who are not trained in accordance with Subpart H of Part 172.
21383-N | Emergency Environmental Services, LLC | 173.185(f) | To authorize the transportation in commerce of damaged lithium batteries in non-spec packaging.
21385-N | Williams Advanced Engineering Limited | 172.101(j), 173.185(a)(1), 173.185(b)(6) | To authorize the transportation in commerce of prototype and low production lithium ion batteries exceeding 35 kg net weight aboard cargo-only aircraft for testing.
21429-N | US Bureau of Customs and Border Protection | 180.205 | To authorize the transportation in commerce of certain cylinders that are past their test date for requalification.
21440-N | Victoria Police | 175.75(b) | To authorize the transportation in commerce of a Division 6.1 hazardous material in the cabin of a passenger-carrying aircraft.
SPECIAL PERMITS DATA—Denied
21262-N | The Chemours Company FC LLC | 173.301(f)(2), 177.840(a)(1) | To authorize the transportation in commerce of certain Division 2.1 gases in cylinders without the pressure relief device (PRD) being in communication with the vapor space.
21378-N | Rawhide Leasing Company LLC |  | To authorize the requalification of 3A, 3AA, 3AX, 3AAx and 3T cylinders by proof pressure testing in accordance with CGA Pamphlet C-1 in lieu of hydrostatic or direct expansion testing.
21387-N | Cobham Mission Systems Orchard Park Inc | 173.302a | To authorize the manufacture, mark, sale, and use of full wrapped fiber reinforced aluminum 6061-T6 lined cylinder meeting the ISO Standard 11119-2 except as specified herein.
21402-N | Daniels Sharpsmart, Inc | 173.196(a) | To authorize the transportation in commerce of infectious substances affecting humans in alternative packaging.
21430-N | Desert Air Transport, Inc | 172.101(j), 173.243, 173.27 | To authorize the transportation in commerce of certain Class 3 fuels in non-DOT specification bulk packaging aboard cargo-only aircraft.
SPECIAL PERMITS DATA—Withdrawn

[FR Doc. 2022-22483 Filed 10-14-22; 8:45 am]

BILLING CODE 4909-60-P